DEPARTMENT OF HOMELAND SECURITY

Coast Guard

33 CFR Part 117

[CGD08-07-031]

RIN 1625-AA09

Drawbridge Operation Regulation; Rigolets Pass, Mile 6.2, Between Orleans and St. Tammany Parishes, LA

AGENCY: Coast Guard, DHS.

ACTION: Notice of temporary deviation from regulations.

SUMMARY: The Commander, Eighth Coast Guard District, has issued a temporary deviation from the regulation governing the operation of the U.S. 90 Swing Bridge across Rigolets Pass, mile 6.2, between Orleans and St. Tammany Parishes, Louisiana. This deviation will allow the draw of the U.S. 90 Swing Bridge to remain in the closed to navigation position until January 15, 2007.

DATES: This deviation is effective from October 16, 2007 until January 15, 2007.

ADDRESSES: Materials referred to in this document are available for inspection or copying at Eighth Coast Guard District, Bridge Administration Branch, Hale Boggs Federal Building, Room 1313, 500 Poydras Street, New Orleans, Louisiana, 70130-3310, between 7 a.m. and 3 p.m., Monday through Friday, except Federal holidays. The telephone number is (504) 671-2128. The Eighth Coast Guard District, Bridge Administration Branch, maintains the public docket for this temporary deviation.

FOR FURTHER INFORMATION CONTACT: Bart Marcules, Bridge Administration Branch, telephone (504) 671-2128.

SUPPLEMENTARY INFORMATION: The U.S. 90 Swing Bridge located on Rigolets Pass at mile 6.2 between Orleans and St. Tammany Parishes, Louisiana has a vertical clearance of 9 feet above mean high water, elevation 2.0 feet Mean Sea Level (MSL) in the closed position and unlimited in the open position. The U.S. 90 Swing Bridge opens on signal as required by 33 CFR 117.5, and this operating schedule has been in effect since 1927.

Due to the fact that a replacement bridge is in the final stages of construction and will be open to traffic shortly the significant costs and time to repair the U.S. 90 Swing Bridge is prohibitive. The repairs will take several months to complete and the new bridge will be open to traffic in three months. The cost of repair is estimated at $250,000 to $500,000 which is an excessive burden on the taxpayers for one month's use of the U.S. 90 Swing Bridge before it is taken out of service. Thus, the Louisiana Department of Transportation and Development has requested that a Temporary Deviation be granted until the new bridge is open for traffic.

The deviation period will be from October 16, 2007 until January 15, 2007, and the U.S. 90 Swing Bridge will be allowed to stay in the closed to navigation position. Small boats can still transit under the U.S. 90 Swing Bridge in the closed to navigation position. This bridge will not be able to open for emergencies.

Since mariners can use the Chef Menteur Pass to access the Gulf of Mexico from Lake Pontchartrain with minimal difference in transit time there are no expected impacts.

In accordance with 33 CFR 117.35(e), the drawbridge must return to its regular operating schedule immediately at the end of the designated time period. This deviation from the operating regulations is authorized under 33 CFR 117.35.

Dated: October 16, 2007.
David M. Frank,
Bridge Administrator.

[FR Doc. E7-21242 Filed 10-26-07; 8:45 am]

BILLING CODE 4910-15-P